Title 3—

The President

Proclamation 8828 of May 22, 2012

National Maritime Day, 2012

By the President of the United States of America

A Proclamation

For 237 years, the men and women of the United States Merchant Marine have risen to meet our country’s call. They have strengthened our economy and our security in times of calm and conflict, connecting our service members to the supplies they need and transporting our exports into the global marketplace. On National Maritime Day, we pay tribute to all those who have served and sacrificed on our waterways and around the world.

From privateers who bravely fought for American independence to mariners who have supported our Armed Forces for over two centuries, the United States Merchant Marine carries forward an enduring legacy of service to our Nation. In the War of 1812, mariners put their lives on the line to preserve our young Republic, engaging British warships with sloops and schooners off our Atlantic coast. During World War II, they executed perilous transits to support our troops in combat. And throughout the 20th century and into the 21st, Merchant Mariners have contributed to the defense of our Nation by transporting essential cargo to ports across the globe. Their commitment has helped deliver us through periods of conflict, and their service will remain a critical asset to our security in the years ahead.

Our maritime industry also sustains the robust domestic and international trade networks that power our economy. As we open up new markets for American exports and support our businesses here at home, the United States Merchant Marine will continue to play a vital role in driving progress and prosperity in communities across our country. Today, we commemorate that important work, and we honor the mariners who dedicate their lives to seeing it through.

The Congress, by a joint resolution approved May 20, 1933, has designated May 22 of each year as “National Maritime Day,” and has authorized and requested the President to issue annually a proclamation calling for its appropriate observance.

NOW, THEREFORE, I, BARACK OBAMA, President of the United States of America, do hereby proclaim May 22, 2012, as National Maritime Day. I call upon the people of the United States to mark this observance and to display the flag of the United States at their homes and in their communities. I also request that all ships sailing under the American flag dress ship on that day.

IN WITNESS WHEREOF, I have hereunto set my hand this twenty-second day of May, in the year of our Lord two thousand twelve, and of the Independence of the United States of America the two hundred and thirty-sixth.

[FR Doc. 2012-13005

Filed 5-24-12; 11:15 am]

Billing code 3295-F2-P